DEPARTMENT OF VETERANS AFFAIRS

Advisory Committee on Former Prisoners of War, Notice of Meeting

The Department of Veterans Affairs (VA) gives notice under the Federal Advisory Committee Act, 5 U.S.C. app. 2., that the Advisory Committee on Former Prisoners of War (Committee) will conduct a virtual meeting on September 20, 2022 from 1:00 p.m.-4:00 p.m. Eastern Daylight Time (EDT).

Date | Time | Location | Open session
September 20, 2022 | 1:00 p.m.-4:00 p.m. (EDT) | Microsoft TEAMS Link and Call-in Information Below | Yes.

The meeting session is open to the public.

The purpose of the Committee is to advise the Secretary of Veterans Affairs on the administration of benefits under title 38 U.S.C., for Veterans who are Former Prisoners of War (FPOW), and to make recommendations on the needs of such Veterans for compensation, health care, rehabilitation, and memorial benefits.

The agenda will include briefings/presentations from the Advisory Committee Management Office (ACMO), update of ACFPOW recommendations, discussion about the FPOW fact sheet and outreach letter, and discussion about upcoming ACFPOW meetings/locations.

No time will be allocated at this meeting for receiving oral presentations from the public. Any member of the public may also submit a 1-2-page commentary for the Committee's review. Any member of the public seeking additional information should contact Mr. Julian Wright, Designated Federal Officer, Department of Veterans Affairs, Advisory Committee on Former Prisoners of War at Julian.Wright2@va.gov no later than September 12, 2022.

Any member of the public who wishes to participate in the virtual meeting may use the following Microsoft Teams Meeting Link:

Join On Your Computer or Mobile App: https://teams.microsoft.com/l/meetup-join/19%3ameeting_MmM5MDRlYzctNjEwYy00MzEwLWEzNWYtNTVlMzY2YzA5ZWQ2%40thread.v2/0?context=%7b%22Tid%22%3a%22e95f1b23-abaf-45ee-821d-b7ab251ab3bf%22%2c%22Oid%22%3a%22b857b6c6-44d8-46b4-8041-6e7d50b9890a%22%7d.

Or Call-In (audio only): Phone: 1-872-701-0185, Code: 484706034#.

Dated: August 19, 2022.
Jelessa M. Burney,
Federal Advisory Committee Management Officer.

[FR Doc. 2022-18304 Filed 8-24-22; 8:45 am]

BILLING CODE 8320-01-P